POSTAL SERVICE

39 CFR Part 111

Invalid Ancillary Service Endorsements

AGENCY: Postal Service.

ACTION: Final rule.

SUMMARY: On August 2, 2000 (65 FR 47362), the Postal Service published for comment a proposed rule amending the Domestic Mail Manual (DMM) to eliminate the transitional provisions for the handling of mail bearing invalid ancillary service endorsements. This final rule sets forth changes to the DMM, allowing the Postal Service to reject mail bearing invalid endorsements and treat such items as unendorsed mail.

EFFECTIVE DATE: January 1, 2001.

FOR FURTHER INFORMATION CONTACT: Jackie Estes, (202) 268-3543.

SUPPLEMENTARY INFORMATION: In July 1997 the Postal Service simplified the endorsements used to request ancillary services by eliminating the existing endorsements and substituting four choices, “Address Service Requested,” “Forwarding Service Requested,” “Return Service Requested,” and “Change Service Requested.” As a transitional accommodation to mailers with stationery bearing the former endorsements, the Postal Service adopted standards providing for the handling of mail bearing the former endorsements. To reduce the risk of confusion and error created by conflicting and obsolete endorsements, the Postal Service proposed to eliminate the transitional provisions. Based on its review, the Postal Service has determined to adopt the proposed changes without revision. As of January 1, 2001, the DMM is revised to eliminate the transitional accommodation to mailers with stationery bearing obsolete ancillary service endorsements.

DMM F030.1.2 is revised to provide ancillary services only in accordance with the valid endorsements shown in DMM F010. Mail bearing obsolete, invalid, or conflicting ancillary service endorsements will no longer be considered acceptable for mailing and the Postal Service may refuse to accept this mail. If mail bearing invalid or conflicting endorsements is discovered in the mailstream it will be handled as unendorsed mail. In the case of Standard Mail (B), “treatment as unendorsed mail” effectively means that mail will be treated as if endorsed “Forwarding Service Requested.” This provision recognizes that the general public (in contrast with business mailers) is unfamiliar with ancillary service endorsements and ensures that packages will be delivered or returned.

Comments Received

The Postal Service received two comments on the proposed rule. One comment was from an importer of material for domestic entry, and the other from an individual customer.

The importer was concerned that mail bearing invalid or conflicting ancillary service endorsements would not be accepted for mailing, potentially creating a disadvantage for the importer, relative to foreign postal administrations, who enter mail in accordance with international postal conventions. Mailers who import material for domestic entry to the United States Postal Service, for the services, benefits, and opportunities that arrangement presents, must comply with domestic mailing requirements. Exceptions based on the origin or particular qualities of matter that is mailed domestically are not permitted. Commercial mailers are expected to communicate applicable DMM requirements to their clients and ensure the mailability of material intended for domestic entry. International mail received from foreign postal administrations is subject to the provisions of the Universal Postal Convention. The provisions of this agreement are different than domestic procedures and requirements and are generally binding on the Postal Service, which is signatory to the Convention. Changes to international mailing conditions must generally be negotiated and require amendment of multilateral conventions and agreements. Modifications to the conditions for entry of international mail are not being considered at this time.

The individual customer comment concerned the lost value of stationery bearing obsolete or invalid endorsements and the treatment of items deposited in mail collection boxes which enter the mailstream and are therefore considered “accepted.” The proposed rule was asserted to be “discriminatory,” since improperly prepared mail that is presented to an employee could be refused, while mail deposited in a collection box can remain in the mailstream and be treated as unendorsed mail.

Mailers have had an extended period of time to adopt correct ancillary service endorsements. Residual stationery inventory can be used if obsolete endorsements are obliterated, minimizing any hardship. Otherwise, acceptance employees routinely reject improperly prepared mail or require customers to correct irregularities. The fact that improperly prepared items may enter the mailstream through unstaffed collection points reflects the practicalities of providing convenient and universal access to the postal network and is not discriminatory. The final rule simply requires the proper endorsement of mail for which an ancillary service is desired and terminates the transitional provisions for servicing invalid endorsements.

For the reasons discussed above, the Postal Service adopts the following amendments to the Domestic Mail Manual, which is incorporated by reference in the Code of Federal Regulations (see 39 CFS 111).

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the Domestic Mail Manual (DMM) as follows:

F Forwarding and Related Services

F000 Basic Services

* * * * *

F030 Address Correction, Address Change, FASTforward, and Return Services

1.0 ADDRESS CORRECTION SERVICE

* * * * *

1.2 Invalid Endorsement

Any obsolete ancillary service endorsement or similar sender endorsement not shown in F010 is considered invalid. Material bearing invalid or conflicting ancillary service endorsements will not be accepted for mailing. If discovered in the mailstream, mail bearing an invalid ancillary service endorsement or conflicting endorsements is treated as unendorsed mail. Exception: Standard Mail (B) pieces that are unendorsed, or that bear invalid or conflicting ancillary service endorsements and are undeliverable, will be treated as if endorsed “Forwarding Service Requested.”

This change will be published in a future issue of the Domestic Mail Manual. An appropriate amendment to 39 CFR 111.3 to reflect these changes will be published.

Stanley F. Mires,
Chief Counsel, Legislative.

[FR Doc. 00-30581 Filed 11-30-00; 8:45 am]

BILLING CODE 7710-12-U